DEPARTMENT OF JUSTICE

Corrected Notice of Lodging of Consent Decree Pursuant to the Clean Water Act (“CWA”) and the Comprehensive Environmental Response, Compensation and Liability Act (“CERCLA”)

On April 7, 2000, a Notice of Lodging was published in the Federal Register stating that a Consent Decree had been lodged in United States v. Gulf States Steel, Inc., in the United States District Court for the Northern District of Alabama on March 28, 2000 (CV-97-BU-2755-M). See 65 FR 18351 (April 7, 2000).

This Notice of Lodging contained a typographical error. Specifically, the original Notice of Lodging stated that Gulf States Steel had agreed to undertake certain Supplemental Environmental Projects (SEPs) in the amount of at least $206 million as part of its Consent Decree resolving its Clean Water Act liability. The actual SEP amount contained in the Consent Decree with the United States is 42.6 million.

Due to the typographical error in the original publication, the Department of Justice will extend the comment period for an additional ten (10) days. Thus, the Department of Justice will receive, for a period of forty (40) days from the date of the original Federal Register publication, comments relating to the proposed Consent Decree. Comments should be addressed to the Assistant Attorney General for the Environment and Natural Resources Division, U.S. Department of Justice, P.O. Box 7611, Washington, DC 20044; and refer to United States v. Gulf States Steel, Inc., DOJ Ref. #90-5-1-1-4211.

The proposed settlement agreement may be examined at the Office of the United States Attorney, 1800 Fifth Avenue, North, Birmingham, Alabama, 35203, and at the office of the Environmental Protection Agency, Region 4, 61 Forsyth Street, SW., Atlanta, GA 30303. In requesting a copy, please refer to the referenced case and enclose a check in the amount of $4.25 (25 cents per page reproduction costs).

Bruce Gelber,
Deputy Chief, Environmental Enforcement Section, Environment and Natural Resources Division.

[FR Doc. 00-10686 Filed 4-27-00; 8:45 am]

BILLING CODE 4410-15-M